DEPARTMENT OF TRANSPORTATION

Pipeline and Hazardous Materials Safety Administration

[Docket No.: PHMSA-2022-0131; Notice No. 2022-16]

Hazardous Materials: Public Meeting Notice for the Research, Development & Technology Virtual Forum

AGENCY: Pipeline and Hazardous Materials Safety Administration (PHMSA), DOT.

ACTION: Notice of public meeting.

SUMMARY: The Pipeline and Hazardous Materials Safety Administration's (PHMSA) Office of Hazardous Materials Safety (OHMS) will hold a public Research, Development & Technology Forum on December 1, 2022, virtually on Microsoft Teams (MS Teams) to present the results of recently completed projects, brief new project plans, and obtain stakeholder input on the direction of current and future research projects on topics including mitigation of climate change, risk management and mitigation, packaging integrity, emerging technology, and technical analysis to aid risk assessment.

DATES: December 1, 2022, from 9 a.m. to 4 p.m. Eastern Standard Time.

ADDRESSES: The meeting will be held virtually on MS Teams.

Registration: DOT requests that attendees pre-register for these meetings by completing the form, at: https://forms.office.com/g/NPs7v18VmL.

Conference call-in and “live meeting” capability will be provided.

Specific information about conference call-in and live meeting access will be posted at: https://www.phmsa.dot.gov/research-and-development/hazmat/rd-meetings-and-events under “Upcoming Events.”

FOR FURTHER INFORMATION CONTACT: Andrew Leyder, Research, Development & Technology, Andrew.Leyder@dot.gov, (202) 360-0664, Office of Hazardous Materials Safety, Pipeline and Hazardous Materials Safety Administration, U.S. Department of Transportation, Washington, DC.

SUPPLEMENTARY INFORMATION: During the meeting, OHMS will solicit comments related to new research topics that may be considered for inclusion in its future work. OHMS is particularly interested in the research gaps associated with the characterization and transportation of energetic materials (explosives), safe transportation of energy products (e.g., crude oil), safe containment and transportation of compressed gases, and safe packaging and transportation of charge storage devices (e.g., lithium ion batteries), and how these might aid in mitigation of climate change. The forum will also include an opportunity for stakeholder input that identifies other research gaps related to the transportation of hazardous materials.

Issued in Washington, DC, on October 31, 2022.
William S. Schoonover,
Associate Administrator for Hazardous Materials Safety, Pipeline and Hazardous Materials Safety Administration.

[FR Doc. 2022-23980 Filed 11-3-22; 8:45 am]

BILLING CODE 4910-60-P